GENERAL SERVICES ADMINISTRATION

[OMB Control No. 3090-0302; Docket No. 2025-0001; Sequence No. 7]

Submission for OMB Review; General Services Administration Acquisition Regulation; Modifications (Federal Supply Schedule) 552.238-82

AGENCY: Office of Acquisition Policy, General Services Administration (GSA).

ACTION: Notice of request for comments.

SUMMARY: Under the provisions of the Paperwork Reduction Act, the Regulatory Secretariat Division will be submitting to the Office of Management and Budget (OMB) a request to review and approve an extension to the information collection requirement regarding the Modifications (Federal Supply Schedule) clause.

DATES: Submit comments on or before: August 14, 2025.

FOR FURTHER INFORMATION CONTACT: Mr. Thomas O'Linn, Procurement Analyst, General Services Acquisition Policy Division, GSA, 202-445-0390 or email gsarpolicy@gsa.gov.

ADDRESSES: Written comments and recommendations for this information collection should be sent within 30 days of publication of this notice to www.reginfo.gov/public/do/PRAMain. Find this particular 2 information collection by selecting “Currently under Review—Open for Public Comments” or by using the search function.

SUPPLEMENTARY INFORMATION:

A. Purpose

The General Services Administration Acquisition Regulation (GSAR) clause 552.238-82, Modifications (Federal Supply Schedule), which was previously titled and numbered as 552.238-81 Modifications (see 84 FR 17030 dated April 23, 2019), requires Contractors who have a GSA Multiple Award Schedule (MAS) (also known as Federal Supply Schedule (FSS)) contract to request a contract modification by submitting information to the contracting officer. At a minimum, each contract modification request covered by this clause includes an explanation for the request and supporting information. The clause has an Alternate I and Alternate II as well.

The basic clause applies to MAS contracts that are not subject to transactional data reporting and covers the following types of requests for contract modification: additional items/additional SINs, deletions, and price reductions. Alternate I is pretty much the same as the basic clause with exception to paragraph (e) being revised to reflect a MAS contractor accepting eMod. Alternate II applies to MAS contracts subject to transactional data reporting and covers the following requests for contract modification: additional items/additional SINs and deletions.

B. Annual Reporting Burden

Respondents: 8,000.

Responses per Respondent: 1.

Total Responses: 8,00.

Hours per Response: 3.5.

Total Burden Hours: 28,000.

C. Public Comments

A 60-day notice was published in the Federal Register at 90 FR 19204 on May 6, 2025. Comments were received from one respondent; however, they did not change the estimate of the burden.

Comment on the Burden Estimate: The respondent stated that “The actual time to prepare a modification including all necessary documents is significantly higher.” However the respondent didn't provide any data to support this statement or propose an alternate estimate.

Response: The need for a modification and the information provided by the contractor via eMod is specific to their request for contract modification under the GSAR clause. The information collection burden estimate reflects an average burden concerning the types of the modifications covered by the clause. As a result, the Government believes its estimate of the burden is reasonable.

Comments on the Clause Requirements: The respondent provided information about each of the clause requirements (e.g., provided information about paragraph (b)(i) of the clause 552.238-82.

Response: GSA appreciates this helpful information. Additionally, the information reaffirms the value and use of eMod for submitting these types of modification requests.

Obtaining Copies of Proposals: Requesters may obtain a copy of the information collection documents from the GSA Regulatory Secretariat Division, by calling 202-501-4755 or emailing GSARegSec@gsa.gov. Please cite OMB Control No. 3090-0302, “Modifications (Federal Supply Schedule)” in all correspondence.

Jeffrey A. Koses,
Senior Procurement Executive, Office of Acquisition Policy, Office of Government-wide Policy.

[FR Doc. 2025-13201 Filed 7-14-25; 8:45 am]

BILLING CODE 6820-61-P